DEPARTMENT OF THE INTERIOR

Bureau of Land Management

[CA-650-1430-01; CACA-40856]

Notice of Availability

AGENCY: Bureau of Land Management, Interior.

ACTION: Notice of availability for an Environmental Assessment (EA) and Finding of No Significant Impact (FONSI) considering a Recreational and Public Purposes Act (R&PP) lease for a horse ranch near Trona, California.

SUMMARY: An EA and FONSI are available for public review for a proposed horse ranch R&PP lease near the community of Trona, California. Pursuant to section 102(2)(c) of the National Environmental Policy Act of 1969 (NEPA), the Bureau of Land Management (BLM) has prepared an EA analyzing impacts of a proposed horse ranch in San Bernardino County, CA. The ranch is proposed to be located on public land, managed by the Bureau of Land Management, Ridgecrest Field Office. Based on the environmental analysis, BLM has made a Finding of No Significant Impact (FONSI). The EA and FONSI are available for public review and comment for 30 days from publication of this notice. A copy of the document can be obtained from the BLM office at 300 S. Richmond Rd, Ridgecrest, CA 93555 or by contacting Peter G. Graves at (760) 384-5429. After consideration of all the public comments, the BLM Field Manager (Authorized Officer) will render a decision selecting the alternative that best meets BLM's Multiple-Use mission.

ADDRESS: Comments should be addressed to Hector A. Villalobos, Field Manager, BLM Ridgecrest Field Office, 300 S. Richmond Rd., Ridgecrest, CA 93555. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: Peter Graves, Resource Management Specialist, Ridgecrest Field Office, BLM, 300 South Richmond Road, Ridgecrest, CA 93555, (760) 384-5429.

SUPPLEMENTARY INFORMATION: On June 29, 1999, Rocking “R” Ranch submitted a Recreation and Public Purpose Lease application to the Bureau of Land Management (BLM), Ridgecrest Field Office, in order to construct, develop, operate and maintain a horse ranch on public land near the community of Trona, California. The proposed horse ranch would shelter abused and abandoned horses.

Dated: December 7, 2001.
Linn Gum,
Acting Field Manager.

[FR Doc. 01-31763 Filed 12-26-01; 8:45 am]

BILLING CODE 4310-40-P